POSTAL SERVICE

39 CFR Part 111

POSTNET Barcode

AGENCY: Postal Service™.

ACTION: Final rule.

SUMMARY: The Postal Service is amending Mailing Standards of the United States Postal Service, Domestic Mail Manual (DMM®) to remove all references to the POSTNET™ barcode.

DATES: Effective Date: October 11, 2018.

FOR FURTHER INFORMATION CONTACT: Lizbeth Dobbins at (202) 268-3789 or Garry Rodriguez at (202) 268-7261.

SUPPLEMENTARY INFORMATION: The Postal Service published a notice of proposed rulemaking on July 23, 2018, (83 FR 34806-07) to amend the DMM to remove all references to the POSTNET barcode. This decision was based on the limited use of the POSTNET barcode and the need to simplify the standards in regard to barcoding letter-size and flat-size mailpieces.

The Postal Service received 1 formal response which was in agreement with the removal of POSTNET barcodes in the DMM.

The Postal Service will remove all references to the POSTNET barcode from the DMM. The Postal Service will continue to process mailpieces with a POSTNET barcode to accommodate customers who may have preprinted stock bearing a POSTNET barcode.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Mail Letters, Cards, Flats, and Parcels

* * * * *

202 Elements on the Face of a Mailpiece

* * * * *

5.0 Barcode Placement Letters and Flats

5.1 Letter-Size

* * * * *

5.1.4 Additional Barcode Permissibility

[Revise the text of 5.1.4 to read as follows:]

An automation letter or a letter claimed at Enhanced Carrier Route saturation or high density automation letter prices may not bear a 5-digit or ZIP+4 Intelligent Mail barcode in the lower right corner (barcode clear zone). The piece may bear an additional Intelligent Mail barcode in the address block only if a qualifying Intelligent Mail barcode with a delivery point routing code appears in the lower right corner.

* * * * *

5.2 Flat-Size

5.2.1 Barcode Placement for Flats

[Revise the fifth sentence of 5.2.1 to read as follows:]

* * * An additional Intelligent Mail barcode may also appear in the address block of an automation flat, when the qualifying Intelligent Mail barcode is not in the address block. * * *

* * * * *

6.0 Barcode Placement for Parcels

* * * * *

[Revise the heading and text of 6.3 to read as follows:]

6.3 Intelligent Mail Barcodes

Intelligent Mail barcodes (IMb) do not meet barcode eligibility requirements for parcels and do not qualify for any barcode-related prices for parcels, but one barcode may be included only in the address block on a parcel, except on eVS parcels. An Intelligent Mail barcode in the address block must be placed according to 5.3.

* * * * *

8.0 Facing Identification Mark (FIM)

* * * * *

8.2 Pattern

[Revise the third sentence in the introductory text of 8.2 to read as follows:]

* * * The required FIM pattern as shown in Exhibit 8.2.0 below depends on the type of mail and the presence of an Intelligent Mail barcode as follows:

* * * * *

204 Barcode Standards

Overview

[Revise the link heading under “Overview” to read as follows:]

1.0 Standards for Intelligent Mail Barcodes

* * * * *

[Revise the heading of 1.0 to read as follows:]

1.0 Standards for Intelligent Mail Barcodes

1.1 General

[Revise the text of 1.1 to read as follows:]

An Intelligent Mail barcode is a USPS-developed method to encode ZIP Code information on mail that can be read for sorting by automated machines. Intelligent Mail barcodes also encode other tracking information.

[Delete 1.2, POSTNET Barcode, in its entirety and renumber 1.3 through 1.6 as 1.2 through 1.5.]

* * * * *

507 Mailer Services

* * * * *

4.0 Address Correction Services

* * * * *

4.2 Address Change Service (ACS)

* * * * *

4.2.6 Additional Standards—When Using Intelligent Mail Barcodes

* * * Mailpieces must meet the following specifications:

* * * * *

[Revise the text of item b to read as follows:]

b. Flat-size mailpieces may be mailed at nonautomation or automation prices.

* * * * *

600 Basic Standards for All Mailing Services

* * * * *

604 Postage Payment Methods and Refunds

* * * * *

4.0 Postage Meters and PC Postage Products (“Postage Evidencing Systems”)

* * * * *

4.3 Postage Payment

* * * * *

4.3.3 Placement of Postage

* * * When placing indicia on mailpieces, position indicia at least ¼ inch from the right edge of the mailpiece and ¼ inch from the top edge of the mailpiece and as follows:

* * * * *

[Revise the text of item e to read as follows:]

e. Do not allow the indicia to infringe on the areas reserved for the FIM, Intelligent Mail barcode, or optical character reader (OCR) clear zone.

* * * * *

Index

* * * * *

P

* * * * *

[Delete the “POSTNET” line item in the Index.]

* * * * *

We will publish an appropriate amendment to 39 CFR part 111 to reflect these changes.

Brittany M. Johnson,
Attorney, Federal Compliance.

[FR Doc. 2018-22107 Filed 10-10-18; 8:45 am]

BILLING CODE 7710-12-P